DEPARTMENT OF ENERGY

Federal Energy Regulatory Commission

[Docket No. EG03-25-000, et al.]

PSEG Power Connecticut LLC, et al.; Electric Rate and Corporate Filings

December 26, 2002.

The following filings have been made with the Commission. The filings are listed in ascending order within each docket classification.

1. PSEG Power Connecticut LLC

Docket No. EG03-25-000.

Take notice that on December 23, 2002, PSEG Power Connecticut LLC (Applicant), filed with the Federal Energy Regulatory Commission (FERC or the Commission) an amendment to its December 4, 2002 application for determination of exempt wholesale generator (EWG) status pursuant to part 365 of the Commission's regulations. The amendment requests Commission authority to engage in certain additional activities incidental to the generation of electricity for sale at wholesale.

The Applicant is a limited liability company formed under the laws of the State of Delaware. The Applicant is engaged, directly or indirectly through an affiliate as defined in section 2(a)(11)(B) of the Public Utility Holding Company Act of 1935 (PUHCA), exclusively in owning or owning and operating eligible electric facilities and participating in certain other activities incidental to such eligible electric facilities as authorized under PUHCA. The Applicant owns and operates eligible facilities located in Connecticut.

Comment Date: January 16, 2003.

2. New York Independent System Operator, Inc.

Docket No. EL01-50-003.

Take notice that on December 20, 2002, the New York Independent System Operator, Inc. (NYISO) tendered for filing a compliance filing in accordance with the Commission's November 22, 2002 order in the above-captioned proceedings.

The NYISO has served a copy of this filing upon all parties designated on the official service lists compiled by the Secretary in these proceedings. The NYISO has also served a copy of this filing to all parties that have executed Service Agreements under the NYISO's Open-Access Transmission Tariff or Services Tariff, the New York State Public Service Commission and to the electric utility regulatory agencies in New Jersey and Pennsylvania.

Comment Date: January 16, 2003.

3. Town of Norwood, Massachusetts, Complainant v.National Grid USA, New England Electric, System, New England Power Company, Massachusetts Electric Co., and Narragansett, Electric Company, Respondents.

[Docket No. EL03-37-000]

Take notice that on December 23, 2002, the Town of Norwood, Massachusetts (Norwood) filed with the Federal Energy Regulatory Commission (Commission) a Complaint under Section 206 of the Federal Power Act against National Grid USA, doing business as New England Electric System, New England Power Company, Massachusetts Electric Co. and Narragansett Electric Company. Norwood complains that these companies, through New England Power Company, have demanded, charged, and sought to collect from Norwood an alleged “Contract Termination Charge” that is unjust, unreasonable, unduly discriminatory, preferential and otherwise unlawful as to Norwood. A copy of this complaint was served on these companies through New England Power Company.

Comment Date: January 13, 2003.

4. Occidental Energy Marketing, Inc.

[Docket No. ER02-1947-002]

Take notice that on December 17, 2002, Occidental Energy Marketing, Inc. filed a Notice of Cancellation with regard to Occidental Energy Marketing, Inc. FERC Electric Rate Schedule No. 1 to be effective February 17, 2003.

Comment Date: January 7, 2003.

5. Sierra Pacific Power Company Nevada Power Company

[Docket No. ER02-2609-002]

Take notice that on December 23, 2002, Sierra Pacific Power Company and Nevada Power Company (collectively, Applicants ) tendered for filing pursuant to Section 205 of the Federal Power Act, Section 35 of the Commission's Regulations, and the Commission's November 21, 2002 Order issued in the above-referenced proceeding, a compliance filing consisting of clean and redlined versions of the Applicants' Open Access Transmission Tariff (OATT). This compliance filing is being made to satisfy the requirement in the Commission's November 21 Order to make a compliance filing within 30 days implementing certain specified changes in the OATT.

Comment Date: January 13, 2003.

6. PJM Interconnection, L.L.C.

[Docket No. ER03-254-001]

Take notice that on December 20, 2002, PJM Interconnection, L.L.C. (PJM), amended its December 6, 2002 filing in this docket. As part of the December 6, 2002 filing, PJM added a new Schedule 12 to the Amended and Restated Operating Agreement of PJM Interconnection, L.L.C. that lists all current PJM members. MG Industries, a current member of PJM, inadvertently was omitted from the new Schedule 12. Therefore, PJM hereby amends its December 6, 2002 filing to include MG Industries in Schedule 12.

PJM states that copies of this filing were served upon all parties listed on the official service list compiled by the secretary in this proceeding and MG Industries.

Comment Date: January 10, 2003.

7. New York Independent System Operator, Inc.

[Docket No. ER03-297-000]

Take notice that on December 23, 2002, the New York Independent System Operator, Inc. (NYISO), filed proposed revisions to the NYISO's Open Access Transmission Tariff (OATT) and Market Administration and Control Area Services Tariff (Services Tariff). The proposed filing would amend the TCC credit policy. The NYISO has requested that the Commission make the filing effective on January 10, 2003.

The NYISO states it has served a copy of this filing to all parties that have executed Service Agreements under the NYISO's OATT or Services Tariff, the New York State Public Services Commission and to the electric utility regulatory agencies in New Jersey and Pennsylvania.

Comment Date: January 13, 2003.

8. Pacific Gas and Electric Company

[Docket No. ER03-299-000]

Take notice that on December 17, 2002, Pacific Gas and Electric Company (PG&E) tendered for filing an annual update filing including revisions to its Reliability Must Run Service Agreements (RMR Agreements) with the California Independent System Operator Corporation (ISO) for Helms Power Plant, PG&E First Revised Rate Schedule FERC No. 207 and San Joaquin Power Plant, PG&E First Revised Rate Schedule FERC No. 211. This filing revises portions of the Rate Schedules to adjust the values for Contract Service Limits, Owner's Repair Cost Obligation and Prepaid Start-up information. These changes are expressly required and/or authorized under the RMR Agreements.

PG&E states that copies of this filing have been served upon the ISO, the California Electricity Oversight Board, and the California Public Utilities Commission.

Comment Date: January 7, 2003.

9. Pacific Gas and Electric Company

[Docket No. ER03-300-000]

Take notice that on December 20, 2002, Pacific Gas and Electric Company (PG&E) tendered for filing changes in rates included in its Transmission Owner Tariff (TO Tariff) for the Transmission Revenue Balancing Account Adjustment (TRBAA) rate, the Reliability Services (RS) rates the Transmission Access Charge Balancing Account Adjustment (TACBAA) also set forth in its TO Tariff. With the exception of the TACBAA rate, these changes in rates are proposed to become effective January 1, 2003.

Copies of this filing have been served upon the California Independent System Operator (ISO), Scheduling Coordinators registered with the ISO, Southern California Edison Company, San Diego Gas &Electric Company, the California Public Utilities Commission and other parties to the official service lists in recent TO Tariff rate cases, FERC Docket Nos. ER00-2360-000 and ER01-66-000.

Comment Date: January 10, 2003.

10. Southern California Edison Company

[Docket No. ER03-301-000]

Take notice, that on December 20, 2002, Southern California Edison Company (Edison) tendered for filing revisions to its firm transmission service agreements (Existing Transmission Contracts) with the following entities:

Entity Rate Schedule FERC No.

1. City of Azusa 372, 373, 374, 375, 376, 377.

2. City of Banning 378, 379, 380, 381, 382, 383.

3. City of Colton 361, 362, 363, 364, 365, 366.

4. City of Riverside 390, 391, 392, 393.

The revised Existing Transmission Contracts specify, among other things, the terms, conditions and rates, for transmission service over Edison's transmission facilities. Edison requests that the revised Existing Transmission Contracts be accepted for filing effective January 1, 2003.

Copies of this filing were served upon the Public Utilities Commission of the State of California, the Cities of Azusa, Banning, Colton and Riverside, and counsel for the Cities.

Comment Date: January 10, 2003.

11. North West Rural Electric Cooperative

[Docket No. ER03-302-000]

Take notice that on December 20, 2002, North West Rural Electric Cooperative (North West) filed three rate schedules for service by North West to the City of Westfield, Iowa pursuant to section 205 of the Federal Power Act and 35.13 of the Regulations of the Federal Energy Regulatory Commission (Commission), 18 CFR 35.13. These agreements are: Rate Schedule dated August 1, 1998 (Initial Rate Reduction); Agreement for Wheeling Electric Power dated January 20, 1999 (Wheeling Agreement); and Agreement for Electric Service dated January 1, 2001 (Second Rate Reduction). North West filing is available for public inspection at its offices in Orange City, Iowa.

North West submits the agreements for filing and requests that: (1) The Rate Reduction Agreement be permitted to become effective as a rate schedule as of August 1, 1998; (2) the Wheeling Agreement be permitted to become effective as of January 1, 2000; and (3) the Second Rate Reduction be permitted to become effective as of January 1, 2001. North West requests waiver of the Commission notice requirements to permit these effective dates. Additionally, North West requests that the Initial Rate Reduction and the Wheeling Agreement be deemed superseded as of January 1, 2000 and January 1, 2001, respectively. North West also requests that its Agreement for Purchase of Power Between Plymouth Electric Cooperative Association and Town of Westfield, Iowa, currently on file with the Commission, be deemed superseded as of August 1, 1998. After all approvals, the Second Rate Reduction will be the only agreement in effect for North West.

Comment Date: January 10, 2003.

12. New York Independent System Operator, Inc.

[Docket No. ER03-303-000]

Take notice that on December 20, 2002, the New York Independent System Operator, Inc. (NYISO) filed the following Market Administration and Control Area Services Tariff (Services Tariff) revisions to the NYCA demand response programs: (I) Extension of the Emergency Demand Response Program (EDRP) through October 31, 2005; (ii) establishment of EDRP Resource eligibility for participation in the NYCA Energy market Locational Based Marginal Pricing price setting mechanism; (iii) adoption of a zonal floor bid price for the Day-Ahead Demand Response Program; (iv) extension of the time period in which Demand Reduction Incentive Payments will be available for Demand Reductions through October 31, 2004; (v) de-linking of the Special Case Resource (SCR) program and EDRP so that the NYISO may activate each program separately; (vi) implementation of a Load reduction Energy payment to SCRs that verify Load reduction in response to a Forecast Reserve Shortage; and (vii) changes in the NYISO administration of the SCR program to facilitate requests for performance by SCRs.

The NYISO has served a copy of this filing to all parties that have executed Service Agreements under the NYISO's Open-Access Transmission Tariff or Services Tariff, the New York State Public Service Commission and to the electric utility regulatory agencies in New Jersey and Pennsylvania.

Comment Date: January 10, 2003.

13. Consolidated Edison Energy, Inc. and Rockland Electric Company

[Docket No. ER03-304-000]

Take notice that on December 20, 2002, Consolidated Edison Energy, Inc. (CEE) and Rockland Electric Company (RECO) tendered for filing requests to (I) permit CEE's participation in the statewide auction bidding process approved by the New Jersey Board of Public Utilities to the extent that CEE may bid to supply the electric load requirements of its affiliate, RECO, which are not served by alternative power suppliers and, if any such bid that CEE may submit is successful, entry into the requisite BPU-approved supply agreements with RECO; (ii) waive, to the extent necessary, applicable provisions in Petitioners' codes of conduct and market-base rate tariffs and the Commission's regulations; and (iii) give expedited review and approval to the foregoing requests at the earliest possible date in view of the February 3, 2003 date for submitting auction bids.

Comment Date: January 10, 2003.

14. PPL Electric Utilities Corporation

[Docket No. ER03-305-000]

Take notice that on December 20, 2002, PPL Electric Utilities Corporation (PPL Electric) filed a revised Interconnection Agreement between PPL Electric and Allegheny Electric Cooperative, Inc. for interconnection at the Renovo/Chapman delivery point.

Comment Date: January 10, 2003.

15. North West Rural Electric Cooperative

[Docket No. ER03-306-00]

Take notice that on December 20, 2002, North West Rural Electric Cooperative (North West) filed its open access transmission tariff (OATT) and accompanying rates pursuant to the Federal Energy Regulatory Commission (Commission) Order No. 888 and section 205 of the Federal Power Act. North West is submitting the tariff because it has received a request for transmission service on its facilities. North West filing is available for public inspection at its offices in Orange City, Iowa.

Comment Date: January 10, 2003.

16. PPL Electric Utilities Corporation

[Docket No. ER03-307-000]

Take notice that on December 20, 2002, PPL Electric Utilities Corporation (PPL Electric) filed a revised Interconnection Agreement between PPL Electric and Allegheny Electric Cooperative, Inc. for interconnection at the Fairfield delivery point.

Comment Date: January 10, 2003.

17. Southern California Edison Company

[Docket No. ER03-308-000]

Take notice, that on December 20, 2002, Southern California Edison Company (Edison) tendered for filing a revised rate for transmission service to be provided pursuant to the terms of the Exchange Agreement (Agreement) with the Department of Water and Power of the City of Los Angeles (DWP), Rate Schedule FERC No. 219. This rate change is made in accordance with Section 8.7.6 of the Agreement and is to become effective for service rendered on and after January 1, 2003.

Copies of this filing were served upon the Public Utilities Commission of the State of California, and the DWP.

Comment Date: January 10, 2003.

18. Allegheny Power

[Docket No. ER03-309-000]

Take notice that on December 19, 2002, Allegheny Power (Allegheny) submitted for filing an unexecuted Interconnection and Operating Agreement (Agreement) with Duke Energy Fayette, LLC (Duke) and a Letter Agreement between Allegheny and Duke.

Allegheny requests an effective date of December 20, 2002 for the Agreement and Letter Agreement and accordingly seeks waiver of the Commission's prior notice requirements. Copies of the filing were served on Duke and the Maryland, Ohio, Pennsylvania, Virginia and West Virginia public utility commissions.

Comment Date: January 10, 2003.

19. California Independent System Corporation

[Docket No. ER03-310-000] Operator

Take notice that on December 20, 2002, the California Independent System Operator Corporation (ISO) submitted an informational filing as to the ISO's updated transmission Access Charge rates effective as of January 1, 2003.

The ISO states that this filing has been served upon the Public Utilities Commission of the State of California, the California Energy Commission, the California Electricity Oversight Board, the Participating Transmission Owners, and upon all parties with effective Scheduling Coordinator Service Agreements under the ISO Tariff. In addition, the ISO is posting the filing on the ISO Home Page.

Comment Date: January 10, 2003.

20. Southern Company Services, Inc.

[Docket No. ER03-311-000]

Take notice that on December 20, 2002, Southern Company Services, Inc., acting on behalf of Alabama Power Company (APC), filed with the Federal Energy Regulatory Commission (Commission) a Notice of Cancellation of the Interconnection Agreement between Blount County Energy, LLC and APC (Service Agreement No. 432 under Southern Companies' Open Access Transmission Tariff, Fourth Revised Volume No. 5). An effective date of November 21, 2002 has been requested.

Comment Date: January 10, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 03-180 Filed 1-3-03; 8:45 am]

BILLING CODE 6717-01-P